DEPARTMENT OF COMMERCE

International Trade Administration

A-421-807

Certain Hot-Rolled Carbon Steel Flat Products from the Netherlands; Antidumping Duty Administrative Review; Extension of Time Limit

AGENCY: Import Administration, International Trade Administration, Department of Commerce.

EFFECTIVE DATE: July 12, 2006.

FOR FURTHER INFORMATION CONTACT: David Cordell or Robert James, AD/CVD Operations, Office 7, Import Administration, International Trade Administration, U.S. Department of Commerce, 14th Street and Constitution Avenue, NW, Washington, DC 20230; telephone: (202) 482-0408 or (202) 482-0469, respectively.

SUPPLEMENTARY INFORMATION:

Background:

On December 22, 2005, in response to a request from petitioners, (United States Steel Corporation), and interested parties (Mittal Steel USA Inc. and Nucor Corporation), we published a notice of initiation of this administrative review in the Federal Register. See Initiation of Antidumping and Countervailing Duty Administrative Reviews and Request for Revocation in Part, 70 FR 76024 (December 22, 2005).

Extension of Time Limit for Preliminary Results

Section 751(a)(3)(A) of the Tariff Act of 1930, as amended (the Act), requires the Department to make a preliminary determination within 245 days after the last day of the anniversary month of an order or finding for which a review is requested and a final determination within 120 days after the date on which the preliminary determination is published. However, if it is not practicable to complete a review within these time periods, section 751(a)(3)(A) of the Act allows the Department to extend the 245-day time limit for the preliminary determination to a maximum of 365 days and the time limit for the final determination to 180 days (or 300 days if the Department does not extend the time limit for the preliminary determination) from the date of publication of the preliminary determination.

The Department has determined that it is not practicable to complete the preliminary results of this review within the original time limit (i.e., by August 2, 2006) because of significant issues that require additional time to evaluate. These include the examination of sales by respondent Corus Staal, BV's many affiliated parties in the U.S. market and in the home market and further examination of Corus Staal BV's cost of production response. Therefore, the Department is fully extending the time limit for completion of the preliminary results of this review by 120 days, or until November 30, 2006, in accordance with section 751(a)(3)(A) of the Act. The deadline for the final results of this administrative review continues to be 120 days after publication of the preliminary results of review.

This notice is issued and published in accordance with sections 751(a)(3)(A) and 777(i) of the Act.

Dated: June 30, 2006.
Stephen J. Claeys,
Deputy Assistant Secretary for Import Administration.

[FR Doc. E6-10874 Filed 7-11-06; 8:45 am]

BILLING CODE 3510-DS-S